FEDERAL COMMUNICATIONS COMMISSION

47 CFR Part 73

[DA 05-2657, MB Docket No. 03-156, RM-10721]

Digital Television Broadcast Service; Laredo, TX

AGENCY: Federal Communications Commission.

ACTION: Final rule.

SUMMARY: The Commission, at the request of Eagle Creek Broadcasting of Laredo, LLC, substitutes DTV channel 31 for KVTV's assigned DTV channel 14. See 68 FR 42662 (July 18, 2003). DTV channel 31 can be allotted to Laredo, Texas, in compliance with the principle community coverage requirements of Section 73.625(a) at reference coordinates 27-31-19 N. and 99-31-19 W. with a power of 200, HAAT of 262 meters and with a DTV service population of 140 thousand. Since the community of Laredo is located within 275 kilometers of the U.S.-Mexico border, concurrence from the Mexican government has been obtained for this allotment. With this action, this proceeding is terminated.

DATES: Effective November 25, 2005.

FOR FURTHER INFORMATION CONTACT: Pam Blumenthal, Media Bureau, (202) 418-1600.

SUPPLEMENTARY INFORMATION: This is a synopsis of the Commission's Report and Order, MB Docket No. 03-156, adopted October 4, 2005, and released October 11, 2005. The full text of this document is available for public inspection and copying during regular business hours in the FCC Reference Information Center, Portals II, 445 12th Street, SW., Room CY-A257, Washington, DC. This document may also be purchased from the Commission's duplicating contractor, Best Copy and Printing, Inc., 445 12th Street, SW., Room CY-B402, Washington, DC 20554, telephone 301-816-2820, facsimile 301-816-0169, or via-e-mail joshir@erols.com.

This document does not contain [new or modified] information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this Report & Order in a report to Congress and the Government Accountability Office pursuant to the Congressional Review Act, see 5 U.S.C. 801(a)(1)(A).

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Texas, is amended by removing DTV channel 14 and adding DTV channel 31 at Laredo.

Federal Communications Commission.
Barbara A. Kreisman,
Chief, Video Division, Media Bureau.

[FR Doc. 05-21296 Filed 10-25-05; 8:45 am]

BILLING CODE 6712-01-P